DEPARTMENT OF HEALTH AND HUMAN SERVICES

Centers for Disease Control and Prevention

Advisory Committee on Childhood Lead Poisoning Prevention (ACCLPP)

In accordance with section 10(a)(2) of the Federal Advisory Committee Act (Pub. L. 92-463), the Centers for Disease Control and Prevention (CDC), announces the following meeting of the aforementioned committee:

Dates and Times:

October 21, 2009, 8:30 a.m.-5 p.m.

October 22, 2009, 8:30 a.m.-12:30 p.m.

Place: Four Points by Sheraton, 1201 K Street, NW., Washington, DC 20005, 202-289-7600.

Status: Open to the public, limited only by the space available. The meeting room accommodates approximately 125 people.

Purpose: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters To Be Discussed: General discussions on the potential approaches to strengthen existing strategies to achieve the Healthy People 2010 goal of eliminating childhood lead poisoning.

—Update on international cooperation initiatives directed at lead poisoning issues.

—Update from Educational Interventions for Lead-Exposed Children Workgroup.

—Final update from Lead and Pregnancy Workgroup and formal vote on Guidelines for the Identification and Management of Lead Exposure in Pregnant and Lactating Women document.

—Update from Lead and Consumer Products Workgroup.

—Update on federal implementation measures related to the Consumer Product Safety Improvement Act of 2008 (CPSIA).

—Program updates from the CDC Lead Poisoning Prevention Branch and the District of Columbia Childhood Lead Poisoning Prevention Program.

—Update from Laboratory Workgroup.

Agenda items are subject to change as priorities dictate.

Opportunities will be provided during the meeting for oral comments. Depending on the time available and the number of requests, it may be necessary to limit the time of each presenter.

Contact Person for More Information: Claudine Johnson, Program OP Assistant, (Contractor, NAI) Lead Poisoning Prevention Branch, Division of Environmental Emergency Health Services, NCEH, CDC, 4770 Buford Hwy, NE., Mailstop F-60, Atlanta, GA 30341, telephone 770-488-3629, fax 770-488-3635.

The Director, Management Analysis and Services Office has been delegated the authority to sign Federal Register notices pertaining to announcements of meetings and other committee management activities, for both CDC and the Agency for Toxic Substances and Disease Registry.

Dated: September 23, 2009.
Elaine L. Baker,
Director, Management Analysis and Services Office, Centers for Disease Control and Prevention.

[FR Doc. E9-23554 Filed 9-29-09; 8:45 am]

BILLING CODE 4163-18-P